DEPARTMENT OF HEALTH AND HUMAN SERVICES

Administration for Children and Families

Proposed Information Collection Activity; Comment Request

Title: Proposed Healthy Marriage and Responsible Fatherhood performance measures and additional data collection (part of the Fatherhood and Marriage Local Evaluation and Cross-site (FaMLE Cross-site) Project).

OMB No.: New Collection.

Background

For decades various organizations and agencies have been developing and operating programs to strengthen families through healthy marriage and relationship education and responsible fatherhood programming. The Administration for Children and Families (ACF), Office of Family Assistance (OFA), has had administrative responsibility for federal funding of such programs since 2006 through the Healthy Marriage (HM) and Responsible Fatherhood (RF) Grant Programs. The authorizing legislation for the programs may be found in Section 403(a)(2) of the Social Security Act [1]. Responsible Fatherhood grantees provide a comprehensive set of services designed to promote responsible fatherhood including activities related to promoting economic stability, fostering responsible parenting, and promoting healthy marriage. Grantees receiving funding for Healthy Marriage offer a broad array of services designed to promote healthy marriage.

The federal government currently collects a set of performance measures from HM and RF grantees. The purpose of this previously approved information collection is to allow OFA and ACF to carry out their responsibilities for program accountability. Descriptions of the information collection may be found at http://www.reginfo.gov/public/do/PRAViewDocument?ref_nbr=201206-0970-005; all measures may be found at http://www.reginfo.gov/public/do/PRAICList?ref_nbr=201206-0970-005.

The Fatherhood and Marriage Local Evaluation (FaMLE) Cross-Site Project

The Offices of Family Assistance (OFA) and Planning, Research and Evaluation (OPRE) in the Administration for Children and Families (ACF), U.S. Department of Health and Human Services (HHS) are proposing new data collection activities to replace existing performance measures as part of the Fatherhood and Marriage Local Evaluation and Cross-site (FaMLE Cross-site) Project. The purpose of the FaMLE Cross-site Project is to support high quality data collection, strengthen local evaluations, and conduct cross-site analysis for the Responsible Fatherhood and Healthy Marriage grantees.

The FaMLE Cross-site project will answer three main research questions: (1) What strategies did grantees use to design well-conceived programs? (2) What strategies did grantees use to successfully implement well-conceived programs? (3) What were the reported outcomes for participants in the programs? In order to answer these questions, we are considering a new set of data collection activities.

Current Request

ACF is engaged in a learning agenda to increase our understanding of Healthy Marriage and Responsible Fatherhood programs. This means that we incorporate multiple opportunities and options for learning throughout a program's implementation that provide a range of insights and perspectives. These opportunities help programming constantly develop and advance. For example, data provide the opportunity to feed information back to decision-makers and leaders—both those on the ground and those in management—to inform program design, operation, and oversight.

ACF is requesting comment on the following:

Performance measures. ACF is proposing a new set of performance measures to be collected by all grantees, beginning with the next round of HMRF grants. These measures will collect standardized information in the following areas:

• Applicant characteristics;

• Program operations (including program characteristics and service delivery); and

• Participant outcomes (will be measured both at initiation of program services (pre-test) and completion (post-test)).

These draft measures were developed per extensive review of the research literature and grantees' past measures.

The next set of grantees will be required to submit data on a set of standardized measures covering these areas on a regular basis (e.g., quarterly). In addition to the performance measures mention above, ACF seeks comment on draft instruments for these data submissions:

• Quarterly Performance Report (QPR), and

• Semi-annual Performance Progress Report (PPR).

A new management information system is being developed which would improve efficiency and the quality of data, and make reporting easier.

Standardized measures and reporting in these areas will enable ACF to track programming outputs and outcomes across programs, and will allow grantees to self-monitor progress.

Additional data collection. As an additional component of the learning agenda, the FaMLE Cross-Site contractor will collect information from a sub-set of grantees on how they designed and implemented their programs (information on outcomes associated with programs will also be assessed). This sub-set of grantees will be required to participate in the additional data collection noted below. The following protocols have been developed:

• Staff interview protocol on program design (will be collected from about half of all grantees);

• Staff interview protocols on program implementation (will be collected from about 10 grantees); and

• Program participant focus group protocol (will be conducted with about 10 grantees).

ACF also seeks comment on these draft protocols.

Respondents

The respondents to the data collection instruments include Responsible Fatherhood and Healthy Marriage Program grantees (e.g., grantee staff) and program participants.

Annual Burden Estimates

The table below is required by law for Federal Register notices like this one. The federal government's Office of Management and Budget requires federal agencies, including ACF, to estimate how many hours it will take respondents to complete data collection, and to publish these estimates in the Federal Register. The following table provides our estimates.

Annual Burden Estimates
Instrument | Total number of respondents | Annual number of respondents | Number of responses per respondent | Average burden hours per response | Annual burden hours
Applicant characteristics (applicant burden) | 157,500 | 52,500 | 1 | 0.25 | 13,125
Applicant characteristics (staff burden) | 1080 | 360 | 146 | 0.25 | 13,140
Program operations (related to program characteristics) | 360 | 120 | 1 | 0.75 | 90
Program operations (related to service delivery) | 432 | 144 | 257 | 0.50 | 18,504
Participant outcomes (pre-test) | 110,700 | 36,900 | 1 | 0.42 | 15,498
Participant outcomes (post-test) | 84,600 | 28,200 | 1 | 0.42 | 11,844
Data entry (for grantees that do not use new management information system, includes applicant characteristics and participant outcomes) | 144 | 48 | 274 | 0.21 | 2,762
Quarterly Performance Form (QPR) | 72 | 24 | 1 | 1 | 24
Semi-annual Performance Progress Report (PPR) | 360 | 120 | 2 | 3.2 | 768
Staff interview protocol on program design | 60 | 20 | 1 | 1 | 20
Staff interview protocol on program implementation | 300 | 100 | 1 | 1 | 100
Program participant focus group protocol | 200 | 67 | 1 | 1.50 | 101

Estimated Total Annual Burden Hours: 75,976.

Note: The annual number of hours shown for “applicant characteristics (staff burden)” (13,140) is slightly higher than the annual number of hours shown for “applicant characteristics (applicant burden)” (13,125) due to rounding up the average number of responses per staff to the nearest whole number (146).

How To Obtain Copies of the Data Collection Instruments

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: RFHM.FRN.response@acf.hhs.gov. All requests should be identified by the title of the information collection.

Specific Areas for Comment

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Reference

[1] http://www.ssa.gov/OP_Home/ssact/title04/0403.htm.

Karl Koerper,
OPRE Reports Clearance Officer.

[FR Doc. 2014-26320 Filed 11-5-14; 8:45 am]

BILLING CODE 4184-73-P